DEPARTMENT OF TRANSPORTATION

Federal Aviation Administration

14 CFR Part 71

[Docket No. FAA-2005-20381; Airspace Docket No. 05-ANM-3]

Revision of Class E Airspace; Gillette, WY

AGENCY: Federal Aviation Administration (FAA), DOT.

ACTION: Final rule.

SUMMARY: This action will revise the Class E airspace at Gillette, WY. Additional Class E airspace is necessary to accommodate aircraft using a new Area Navigation (RNAV) Global Positioning System (GPS) Standard Instrument Approach Procedure (SIAP) at Gillette-Campbell County Airport. This will improve the safety of Instrument Flight Rules (IFR) aircraft executing the new RNAV GPS SIAP at Gillette-Campbell County Airport, Gillette, WY.

DATES: Effective Date: 0901 UTC, May 10, 2007. The Director of the Federal Register approves this incorporation by reference action under 1 CFR part 51, subject to the annual revision of FAA Order 7400.9 and publication of conforming amendments.

FOR FURTHER INFORMATION CONTACT: Ed Haeseker, Federal Aviation Administration, Western Service Area, System Support, 1601 Lind Avenue SW., Renton, WA, 98055-4056; telephone (425) 227-2527.

SUPPLEMENTARY INFORMATION:

History

On August 11, 2006, the FAA published in the Federal Register a notice of proposed rulemaking to revise Class E airspace at Gillette, WY, (71 FR 46133). This action would improve the safety of Instrument Flight Rules (IFR) aircraft executing this new RNAV GPS approach procedure at Gillette-Campbell County Airport, Gillette WY. Interested parties were invited to participate in this rulemaking effort by submitting written comments on the proposal to the FAA. No comments were received.

Class E airspace designations are published in paragraph 6005 of FAA Order 7400.9P dated September 1, 2006, and effective September 15, 2006, which is incorporated by reference in 14 CFR part 71.1. The Class E airspace designations listed in this document will be published subsequently in that Order.

The Rule

This action amends Title 14 Code of Federal Regulations (14 CFR) part 71 by revising Class E airspace at Gillette, WY. Additional controlled airspace is necessary to accommodate IFR aircraft executing a new RNAV (GPS) approach procedure at Gillette-Campbell Airport, Gillette WY.

The FAA has determined that this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(g), 40103, 40113, 40120; E. O. 10854, 24 FR 9565, 3 CFR, 1959-1963 Comp., p. 389.

§ 71.1 [Amended]

2. The incorporation by reference in 14 CFR part 71.1 of the Federal Aviation Administration Order 7400.9P, Airspace Designations and Reporting Points, dated September 1, 2006, and effective September 15, 2006, is amended as follows:

Paragraph 6005. Class E airspace areas extending upward from 700 feet or more above the surface of the earth.

* * * * *

ANM WY E5 Gillette, WY [Revised]

Gillette-Campbell County Airport, WY

(Lat. 44°20′56″ N., long. 105°32′22″ W.)

Gillette VOR/DME

(Lat. 44°20′52″ N., long. 105°32′37″ W.)

That airspace extending upward from 700 feet above the surface of the earth within 6.1 miles east and 8.3 miles west of the Gillette VOR/DME 176° and 356° radials extending from 15.3 miles south to 16.1 miles north of the VOR/DME; that airspace extending upward from 1200 feet above the surface of the earth bounded by a line beginning at lat. 44°47′00″ N., long. 106°22′32″ W.; to lat. 44°23′00″ N., long. 106°22′32″ W.; to lat. 44°16′00″ N., long. 105°58′02″ W.; to lat. 44°05′00″ N., long. 106°00′02″ W.; to lat. 43°49′15″ N., long. 106°09′32″ W.; to lat. 43°39′00″ N., long. 106°00′02″ W.; to lat. 43°39′00″ N., long. 105°09′02″ W.; to lat. 44°08′30″ N., long. 105°09′00″ W.; to lat. 44°01′00″ N., long. 104°51′02″ W.; to lat. 44°30′00″ N., long. 104°41′02″ W.; to lat. 44°39′00″ N., long. 105°20′00″ W.; to lat. 44°55′00″ N., long. 105°20′00″ W.; to lat. 44°55′00″ N., long. 105°55′00″ W.; to lat. 44°43′30″ N., long. 105°55′00″ W.; thence to point of beginning.

* * * * *

Issued in Seattle, Washington, on January 24, 2007.
Clark Desing,
Manager, System Support, Western Service Area.

[FR Doc. E7-3049 Filed 2-22-07; 8:45 am]

BILLING CODE 4910-13-P